DEPARTMENT OF ENERGY

Federal Energy Regulatory Commission

[Docket No. RP00-293-000]

El Paso Natural Gas Company; Notice of Extension of Time

May 25, 2000.

Take notice that on May 19, 2000, ursuant to Rules 212 and 2008 of the Commission's Rules of Practice and Procedure, 18 CFR 385.212 and 385.2088, El Paso Natural Gas Company (El Paso) tendered for filing a requests for an extension of time in which to comply with that portion of the Commission's directive in Order No. 637 requiring the filing of pro forma tariff sheets to implement segmentation of pipeline capacity.

El Paso seeks an extension of time with regard to the issue of capacity segmentation because of its inability to determine whether, and to what extent, capacity segmentation will be possible on its system.

El Paso requests that it be granted an extension of time in which to make its Order No. 637 compliance filing on the issue of capacity segmentation. El Paso proposes to file its pro forma segmentation tariff sheets no later than 45 days after the earlier of (i) the filing of an uncontested settlement on the capacity allocation issue, or (ii) the issuance of an order by the Commission in the complaint proceeding establishing the appropriate methodology for allocating El Paso's receipt and delivery point capacity. El Paso asserts that if neither of the foregoing events occurs prior to the end of calendar year 2000 and a negotiated settlement does not appear to be imminent, El Paso will file, no later than January 15, 2001, pro forma tariff sheets that assume the continuation of pro rata allocation of El Paso's capacity.

El Paso requests that the Commission act expeditiously on its motion for extension of time. El Paso states that it is currently in the process of preparing its June 15 compliance filing, and it must proceed to formulate a segmentation proposal to include in that filing if this motion is not granted.

Any person desiring to be heard or to protest said filing should file a motion to intervene or a protest with the Federal Energy Regulatory Commission, 888 First Street NE., Washington, DC 20426, in accordance with Sections 385.214 or 385.211 of the Commission's Rules and Regulations. All such motions or protests must be filed on or before June 1, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13629 Filed 5-31??-00; 8:45 am]

BILLING CODE 6717-01-M